DEPARTMENT OF TRANSPORTATION

Federal Aviation Administration

14 CFR Part 39

[Docket No. FAA-2023-1211; Project Identifier MCAI-2022-01598-E]

RIN 2120-AA64

Airworthiness Directives; Rolls-Royce Deutschland Ltd & Co KG

AGENCY: Federal Aviation Administration (FAA), DOT.

ACTION: Notice of proposed rulemaking (NPRM); withdrawal.

SUMMARY: The FAA is withdrawing a notice of proposed rulemaking (NPRM) that proposed to adopt a new airworthiness directive (AD) that would have applied to all Rolls-Royce Deutschland Ltd & Co KG (RRD) Model BR700-715A1-30, BR700-715B1-30, and BR700-715C1-30 engines. The NPRM would have required repetitive fluorescent penetrant inspections (FPIs) of the front flange scallops of the LPC booster rotor for any cracks, replacement or repair of the LPC booster rotor if necessary and, as an optional terminating action to the repetitive FPIs, a visual inspection for malformed scallop edge geometry and malformed surface conditions, as specified in a European Union Aviation Safety Agency (EASA) AD. Since the NPRM was issued, the FAA issued AD 2023-17-11, which addresses the unsafe condition identified in the NPRM. Accordingly, the NPRM is withdrawn.

DATES: As of November 28, 2023, the proposed rule which was published in the Federal Register on June 14, 2023 (88 FR 38762), is withdrawn.

ADDRESSES:

AD Docket: You may examine the AD docket at regulations.gov under Docket No. FAA-2023-1211; or in person at Docket Operations between 9 a.m. and 5 p.m., Monday through Friday, except Federal holidays. The AD docket contains the NPRM, this AD action (withdrawal), the mandatory continuing airworthiness information (MCAI), any comments received, and other information. The street address for Docket Operations is U.S. Department of Transportation, Docket Operations, M-30, West Building, Ground Floor, Room W12-140, 1200 New Jersey Avenue SE, Washington, DC 20590.

FOR FURTHER INFORMATION CONTACT: Sungmo Cho, Aviation Safety Engineer, FAA, 1600 Stewart Avenue, Suite 410, Westbury, NY 11590; phone: (781) 238- 7241; email: Sungmo.D.Cho@faa.gov.

SUPPLEMENTARY INFORMATION:

Background

EASA, which is the Technical Agent for the Member States of the European Union, had issued EASA AD 2022-0252 dated December 16, 2022 (later revised to EASA AD 2022-0252R1, dated April 28, 2023 (EASA AD 2022-0252R1)) to correct an unsafe condition for all RRD Model BR700-715A1-30, BR700-715B1-30, and BR700-715C1-30 engines. EASA later issued EASA AD 2023-0152, dated July 25, 2023 (EASA AD 2023-0152) (also referred to as the MCAI), which supersedes EASA AD 2022-0252R1.

The FAA issued an NPRM that proposed to amend 14 CFR part 39 by adding an AD for all RRD Model BR700-715A1-30, BR700-715B1-30, and BR700-715C1-30 engines, which was published in the Federal Register on June 14, 2023 (88 FR 38762). The NPRM was prompted by EASA AD 2022-0252, which stated that occurrences have been reported of finding malformed scallop edge geometry and surface conditions at the front flange scallops of certain LPC booster rotors. The NPRM proposed to require repetitive FPIs of the front flange scallops of the LPC booster rotor for any cracks, replacement, or repair of the LPC booster rotor if necessary and, as an optional terminating action to the repetitive FPIs, a visual inspection for malformed scallop edge geometry and malformed surface conditions.

Actions Since the NPRM Was Issued

Since the NPRM was issued, the FAA has reviewed the MCAI, which supersedes EASA AD 2022-0252R1. The MCAI discusses the reported occurrences of finding malformed scallop edge geometry and surface conditions at the front flange of scallops of certain LPC booster rotors, which were also discussed in EASA AD 2022-0252R1. The MCAI includes both more restrictive compliance times for certain engines and extended compliance times for certain other engines. The MCAI also refers to the updated service information referenced by the commenters, specifies repetitive FPIs of the front flange scallops of the LPC booster rotor for any cracks, replacement or repair of the LPC booster rotor if necessary and, as an optional terminating action to the repetitive FPIs, a visual inspection for malformed scallop edge geometry and malformed surface conditions.

Additionally, the FAA received comments on the NPRM from four commenters. Commenters included Hawaiian Airlines (Hawaiian), Delta Air Lines (Delta), The Boeing Company, and Air Line Pilots Association, International (ALPA). Boeing and ALPA supported the NPRM without change. However, comments from Hawaiian and Delta identified concerns with the NPRM. These comments requested a revision to the NPRM to refer to the updated manufacturer service information and the inclusion of suitable materials required to perform the required actions.

Consequently, the FAA issued AD 2023-17-11, Amendment 39-22537 (88 FR 60566, September 5, 2023), which was prompted by EASA AD 2023-0152. AD 2023-17-11 incorporates the specifications of EASA AD 2023-0152 to correct an unsafe condition for all RRD Model BR700-715A1-30, BR700-715B1-30, and BR700-715C1-30 engines; refers to the revised service information (which addresses the concerns of both Delta and Hawaiian commenters); addresses the unsafe condition and negates the need for this proposed AD.

FAA's Determination

The FAA has determined that the proposed AD is not necessary to address the identified safety concern. Accordingly, the NPRM is withdrawn.

Regulatory Findings

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2023-1211; Project Identifier MCAI-2022-01598-E, which was published in the Federal Register on June 14, 2023 (88 FR 38762), is withdrawn.

Issued on November 20, 2023.
Ross Landes,
Deputy Director for Regulatory Operations, Compliance & Airworthiness Division, Aircraft Certification Service.

[FR Doc. 2023-26090 Filed 11-27-23; 8:45 am]

BILLING CODE 4910-13-P